ENVIRONMENTAL PROTECTION AGENCY

40 CFR Part 52

[EPA-R09-OAR-2013-0576; FRL-9904-75-Region 9]

Revisions to the Arizona State Implementation Plan, Maricopa County Area

AGENCY: Environmental Protection Agency (EPA).

ACTION: Final rule.

SUMMARY: The Environmental Protection Agency (EPA) is finalizing approval of revisions to the Maricopa County Area portion of the Arizona State Implementation Plan (SIP). This action was proposed in the Federal Register on August 23, 2013 and concerns particulate matter (PM) emissions from fugitive dust sources. We are approving local statutes that regulate these emission sources under the Clean Air Act (CAA or the Act).

DATES: This rule is effective on April 30, 2014.

ADDRESSES: EPA has established docket number EPA-OAR-2013-0576 for this action. Generally, documents in the docket for this action are available electronically at http://www.regulations.gov or in hard copy at EPA Region IX, 75 Hawthorne Street, San Francisco, California 94105-3901. While all documents in the docket are listed at http://www.regulations.gov, some information may be publicly available only at the hard copy location (e.g., copyrighted material, large maps, multi-volume reports), and some may not be available in either location (e.g., confidential business information (CBI)). To inspect the hard copy materials, please schedule an appointment during normal business hours with the contact listed in the FOR FURTHER INFORMATION CONTACT section.

FOR FURTHER INFORMATION CONTACT: Christine Vineyard, EPA Region IX, (415) 947-4125, vineyard.christine@epa.gov.

SUPPLEMENTARY INFORMATION: Throughout this document, “we,” “us” and “our” refer to EPA.

Table of Contents

I. Proposed Action

II. Public Comments and EPA Responses

III. EPA Action

IV. Statutory and Executive Order Reviews

I. Proposed Action

On August 23, 2013 (78 FR 52485), EPA proposed to approve the following statutes into the Arizona SIP.

Table 1—Submitted Statutes
Arizona statute | Statute title | Signed | Submitted | Revised submittal
9-500.27 | Off-road vehicle ordinance; applicability; violation; classification (A, B, and C only) | July 2, 2007 | May 25, 2012 | May 21, 2013.
11-871 | Emissions control; no burn; exemptions; penalty (A and B only) | July 2, 2007 | May 25, 2012 | May 21, 2013.
28-1098 | Vehicle loads; restrictions; civil penalties (A.1-3) | July 2, 2007 | May 25, 2012 | May 21, 2013.
49-457.03 | Off-road vehicles; pollution advisory days; applicability; penalties (A and B only) | July 2, 2007 | May 25, 2012 | May 21, 2013.
49-457.04 | Off-highway vehicle and all-terrain vehicle dealers; informational material; outreach; applicability | July 2, 2007 | May 25, 2012 | May 21, 2013.
49-501 | Unlawful open burning; exceptions; fine; definition (A.2, B.1, C, and F only) | July 2, 2007 | May 25, 2012 | May 21, 2013.

We proposed to approve these statutes because we determined that they complied with the relevant CAA requirements. Our proposed action contains more information on the statutes and our evaluation.

II. Public Comments and EPA Responses

EPA's proposed action provided a 30-day public comment period. During this period, we received no comments.

III. EPA Action

No comments were submitted. Therefore, as authorized in section 110(k)(3) of the Act, EPA is fully approving these statutes into the Arizona SIP.

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by May 30, 2014. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Particulate matter, Reporting and recordkeeping requirements.

Dated: December 16, 2013.
Jared Blumenfeld,
Regional Administrator, Region IX.

Part 52, Chapter I, Title 40 of the Code of Federal Regulations is amended as follows:

PART 52—APPROVAL AND PROMULGATION OF IMPLEMENTATION PLANS

1. The authority citation for part 52 continues to read as follows:

Authority: 42 U.S.C. 7401 et seq.

Subpart D—Arizona

2. Section 52.120 is amended by adding paragraphs (c)(157)(i)(A)(6) through (9) to read as follows:

§ 52.120 Identification of plan.

* * * * *

(c) * * *

(157) * * *

(i) * * *

(A) * * *

(6) Arizona Revised Statutes (Thomson/West, 2008): Title 9 (cities and towns), chapter 4 (general powers), article 8 (miscellaneous), section 9-500.27 (“Off-road vehicle ordinance; applicability; violation; classification”), excluding paragraphs D and E.

(7) Arizona Revised Statutes (West, 2012): Title 11 (counties), chapter 6 (county planning and zoning), article 6 (air quality), section 11-871 (“Emissions control; no burn; exemptions; penalty”), excluding paragraphs C through E.

(8) Arizona Revised Statutes (West, 2012): Title 28 (transportation), chapter 3 (traffic and vehicle regulation), article 18 (vehicle size, weight and load), section 28-1098 (“Vehicle loads; restrictions; civil penalties”), excluding paragraphs B and C.

(9) Arizona Revised Statutes (West, 2012 Cumulative Pocket Part):

(i) Title 49 (the environment), chapter 3 (air quality), article 2 (state air pollution control), sections 49-457.03 (“Off-road vehicles; pollution advisory days; applicability; penalties”), excluding paragraphs C and D; and 49-457.04 (“Off-highway vehicle and all-terrain vehicle dealers; informational material; outreach; applicability”); and

(ii) Title 49 (the environment), chapter 3 (air quality), article 3 (county air pollution control), section 49-501 (“Unlawful open burning; exceptions; civil penalty; definition”), excluding paragraph A.1, paragraphs B.2 through B.6, and paragraphs D, E, G, and H.

* * * * *

[FR Doc. 2014-07122 Filed 3-28-14; 8:45 am]

BILLING CODE 6560-50-P